DEPARTMENT OF THE INTERIOR

Bureau of Land Management

[WO-250-1220-PM-24 1A]

60-Day Notice of Intention To Request Clearance of Collection of Information; Opportunity for Public Comment

AGENCY: Department of the Interior, Bureau of Land Management.

ACTION: Notice and request for comments.

SUMMARY: In accordance with the Paperwork Reduction Act of 1995 and 5 CFR part 1320, Reporting and Record Keeping Requirements, the Department of the Interior (DOI), Bureau of Land Management (BLM) invites public comments on the proposed collection of information (1004-XXXX).

DATES: Public comments will be accepted on or before January 14, 2008.

ADDRESSES: Send Comments to: You may send comments to Jennifer Hoger Russell, Park Studies Unit, College of Natural Resources, University of Idaho, P.O. Box 44139, Moscow, ID 83844-1139; Phone: (208) 885-4806; Fax (208) 885-4261, e-mail: jhoger@uidaho.edu. Also, you may send comments to Alexandra Ritchie, BLM Bureau Information Collection Clearance Officer, 1620 L Street, NW., Room 401, Washington, DC 20036 or by e-mail at Alexandra_Ritchie@blm.gov. All responses to this notice will be summarized and included in the request for the Office of Management and Budget (OMB) approval. All comments will become a matter of public record.

To Request a Draft of Proposed Collection of Information Contact: Jennifer Hoger Russell, Park Studies Unit, College of Natural Resources, University of Idaho, P.O. Box 44139, Moscow, ID 83844-1139; Phone: (208) 885-4806; Fax (208) 885-4261, e-mail: jhoger@uidaho.edu.

FOR FURTHER INFORMATION CONTACT: Victoria “Vicki” Josupait, Bureau of Land Management National Operations Center, DFC, Building 50, P.O. Box 25047, OC-531, Denver, CO 80225; or via phone 303-236-6313; or via e-mail: Victoria_Josupait@blm.gov. You are entitled to a copy of the entire information collection request package free of charge.

SUPPLEMENTARY INFORMATION: Title: Bureau of Land Management Visitor Satisfaction Survey.

Bureau Form Number: None.

OMB Number: 1004-XXXX.

Expiration Date: To be requested.

Type of Request: New collection.

Description of Need: The Government Performance and Results Act (GPRA) of 1993 (Pub.L. No. 103-62) sets out to “improve Federal program effectiveness and public accountability by promoting a new focus on results, service quality, and customer satisfaction” (Section 2. b. 3). In order to fulfill this responsibility, DOI's bureaus and offices must collect data from their respective user groups to (1) better understand the needs and desires of the public and (2) respond to those needs and desires accordingly.

The GPRA is supported by Executive Order (E.O.) 12862 (September 11, 1993) aimed at “ensuring the Federal Government provides the highest quality service possible to the American people.” The E.O. discusses surveys as a means for determining the kinds and qualities of service desired by the Federal Government's customers and for determining satisfaction levels for existing service. Voluntary customer surveys provide valuable information regarding customer satisfaction with BLM's services, recreation experience, and value for fee paid, as well as reporting on annual performance goals.

The GPRA requires that the BLM develop goals to improve program effectiveness and public accountability, and to measure performance related to these goals. The BLM Visitor Satisfaction Survey (Survey) measures performance toward those goals through a short visitor survey. The project is an element of the BLM Strategic Plan.

The Survey is funded by the BLM through an assistance agreement with the Park Studies Unit at the University of Idaho. The BLM had used a longer version of the survey to conduct visitor surveys at approximately 22 BLM recreation sites annually since 1999, with the exception of 2002 (OMB No. 1040-0001, exp. 01/31/05). In 2005, the BLM received clearance for the Survey (OMB No. 1040-0001, exp. 1/31/08). This is a request that will replace the previously-approved information collection under which we have been operating for several years, with the addition of two questions to address new performance measures, and with a new clearance number.

The purpose of the Survey is to measure visitors' opinions and satisfaction regarding facilities, fees, services, interpretation and education, and recreational opportunities at each site and Bureau-wide. This effort is required by GPRA and other DOI strategic planning efforts. Data from the proposed survey is needed to assess performance regarding BLM GPRA goals 3.1.01, 3.1.11, 3.1.15, and 3.1.16. The relevant BLM GPRA goals state:

Goal 3.1.01: Percent of visitors satisfied with the quality of their recreation experience. (Target 96%).

Goal 3.1.11: Satisfaction with the quality of interpretation and environmental education products in Special Recreation Management Areas as measured by a general public survey. (Target 91%).*

Goal 3.1.15: Percent of visitors satisfied with services provided by commercial recreational operations. (Target—Establish Baseline).*

Goal 3.1.16: Percent of customers satisfied with the value for fee paid. (Target 90%).

*New measures for the FY08 survey.

Each of these goals directly supports the DOI Strategic Plan Mission Goal to “Improve recreation opportunities for America”, and End Outcome Goal 1 to “Improve the Quality and Diversity of Recreation Experiences and Visitor Enjoyment on DOI lands”, as identified in the DOI GPRA Strategic Plan 2007-2012. BLM performance on all goals measured in this study will contribute to DOI Department-wide performance reports. Results of the Survey will also be used by local BLM managers to improve visitor services and to allocate limited resources.

Under provisions of the Paperwork Reduction Act of 1995 and 5 CFR part 1320, Reporting and Record Keeping Requirements, the BLM invites comments on the need for gathering the information in the proposed survey (OMB No. 1004-XXXX). Comments are invited on: (1) The practical utility of the information being gathered; (2) the accuracy of the burden hour estimate; (3) ways to enhance the quality, utility, and clarity of the information to be collected; and (4) ways to minimize the burden to respondents, including use of automated information collection techniques or other forms of information technology.

Automated data collection: This information will be collected via in-person intercept surveys. No automated data collection will take place.

Description of respondents: Visitors to approximately 22 BLM recreation sites.

Estimated average number of respondents: 3,500 respondents (1,050 non-respondents and 2,450 respondents).

Estimated average number of responses: 3,500 respondents (1,050 non-responses and 2,450 responses).

Estimated average burden hours per response: 1 minute for non-respondents and 8 minutes for respondents.

Frequency of response: 1 time per respondent.

Estimated annual reporting burden: 482.5 hours.

Dated: November 8, 2007.
Alexandra Ritchie,
Information Collection Clearance Officer, Bureau of Land Management.

[FR Doc. E7-22238 Filed 11-14-07; 8:45 am]

BILLING CODE 4310-84-P